DEPARTMENT OF THE TREASURY

United States Mint

Citizens Coinage Advisory Committee: Amended Notice of February Meeting

Notice is hereby given of a change in the meeting time of the Citizens Coinage Advisory Committee (CCAC), February 28, 2006, which was published in the Federal Register on January 31, 2006, 71 FR 5119.

The meeting time has been changed to 10 a.m. to 2 p.m. The meeting date and location remain the same:

Date: February 28, 2006.

Time: 10 a.m. to 2 p.m.

Location: The United States Mint; 801 Ninth Street, NW.; Washington, DC; Second floor.

Subject: Review of designs for the Presidential $1 Coin Program and other business.

The meeting is open to the public.

Interested persons should call 202-354-7502 for the latest update on meeting time and room location.

FOR FURTHER INFORMATION CONTACT: Cliff Northup, United States Mint Liaison to the CCAC; 801 Ninth Street, NW.; Washington, DC 20220; or call 202-354-7200.

Dated: February 13, 2006.
David A. Lebryk,
Acting Director, United States Mint.

[FR Doc. E6-2325 Filed 2-16-06; 8:45 am]

BILLING CODE 4810-37-P